DEPARTMENT OF COMMERCE

Office of the Secretary

[Docket No.: 021023248-2248-01]

Privacy Act of 1974; System of Records

AGENCY: Office of Administration, Office of the Secretary, Department of Commerce.

ACTION: Notice and request for comments.

SUMMARY: In accordance with the Privacy Act (5 U.S.C. 552a(e) (4) and (11)), the Department of Commerce is issuing notice of our intent to amend the system of records entitled Commerce/Census-4, “Minority-Owned Business Enterprises Survey Records.” We invite public comment on the proposed change in this publication.

DATES: The amendments will become effective as proposed without further notice on December 2, 2002.

Comment Date: To be considered, written comments must be submitted on or before December 2, 2002.

ADDRESSES: Comments may be mailed to Gerald W. Gates, Chief, Policy Office, U.S. Census Bureau, Washington, DC 20233.

SUPPLEMENTARY INFORMATION: The amendment updates administrative information concerning the locations of the system files, the categories of individuals covered by the system, the categories of records in the system, the purpose of the system of records, safeguards, and the disposal of the records in the system in addition to other minor administrative updates. Accordingly, the Minority-Owned Business Enterprises Survey Records system notice originally published at 45 FR 82105, December 12, 1980, is amended by the addition of the following information updates.

Commerce/Census-4

Title:

Add “Women-and” before Minority-Owned.

System Location:

After the last zip code add: “Bureau of the Census, Bowie Computer Center, 17101 Melford Boulevard, Bowie, Maryland 20715; Bureau of the Census, National Processing Center, 1201 East 10th Street, Jeffersonville, Indiana 47132.”

Categories of individuals covered by the system:

Strike “Female and minority” and insert “Ethnicity, race, and gender of”.

Categories of records in the system:

After “race,” insert “ethnicity,” and after “geographic area,” insert “place of birth, and”. Strike “Name and social security number are deleted from partners and stockholders once other data are coded.” Strike “of minority business enterprises.”.

Authority for maintenance of the system:*

Purpose(s):

Add “The purpose of this system of records is to conduct research on the methodology associated with various aspects of surveys, such as data quality checks and review during post data collection processing because of an unusual inconsistency or other data problem.”

Routine uses of records maintained in the system*

Policies and practices for storing, retrieving, accessing, retaining, and disposing of records in the system:

Storage:

After “tape” add: “and CD-ROM.”

Retrievability:

Delete “Filed” and insert “Retrieved”.

Safeguards:

After the last sentence add: “Computer systems processing sensitive information meet the basic security requirements for discretionary access control as defined by DOD 5200.28 STD, commonly referred to as C2-level security. This level of security controls through use of specific security features, access to information such that only properly authorized individuals, or processes operating on their behalf, will have access to read, write, create, or delete information.”

Retention and disposal:

Delete “unit's Records Control Schedule” and insert “Census Bureau's records schedule approved by the National Archives and Records Administration”.

Systems manager(s) and address:

Strike “Administration” and insert “Economic Programs”.

Systems exempted from certain provisions of the Act:

Insert “system of” between “this” and “record” in the first sentence and change “record” to “records”.

______

* Indicates that there are no changes to that paragraph of the notice.

Dated: October 29, 2002.
Brenda Dolan,
Department of Commerce, Freedom of Information/Privacy Act Officer.

[FR Doc. 02-27820 Filed 10-31-02; 8:45 am]

BILLING CODE 3510-07-P